DEPARTMENT OF THE INTERIOR

National Park Service

[NPS-WASO-NRNHL-16107; PPWOCRADI0, PCU00RP14.R50000]

National Register of Historic Places; Notification of Pending Nominations and Related Actions

Nominations for the following properties being considered for listing or related actions in the National Register were received by the National Park Service before June 21, 2014. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th Floor, Washington, DC 20005; or by fax, 202-371-6447. Written or faxed comments should be submitted by July 28, 2014. Before including your address, phone number, email address, or other personal identifying information in your comment, you should be aware that your entire comment—including your personal identifying information—may be made publicly available at any time. While you can ask us in your comment to withhold your personal identifying information from public review, we cannot guarantee that we will be able to do so.

Dated: June 27, 2014.
J. Paul Loether,
Chief, National Register of Historic Places/National Historic Landmarks Program.

Alabama

Shelby County

Arkwright Historic District, Jct. of NS & CSX RRs., Cty. Rd. 62 & Florey St., Vincent, 14000453

Alaska

Ketchikan Gateway Borough-Census Area

Creek Street Historic District, Creek St., Married Man's Trail & Totem Way, Ketchikan, 14000454

Colorado

Las Animas County

Varros, Margarito, Homestead, Address Restricted, Kim, 14000455

Kentucky

Boone County

Kite, James William, Store, (Boone County, Kentucky MPS) 8800 E. Bend Rd., Burlington, 14000456

Bourbon County

Kiser, James, House, 41 E. Main St., Paris, 14000457

Jefferson County

Eastwood School, 610 Gilliland Rd., Louisville, 14000458

Kenton County

Ritte's East Historic District, CSX RR., Twin Oaks Golf Course, Winston, Decoursey & 40th Sts., Covington, 14000459

Mississippi

Hinds County

Smith Park Architectural District (Boundary Increase III and Additional Documentation), Roughly E. Capitol & E. Pearl between N. West & N. Lamar Sts., Jackson, 14000461

Montana

Powell County

MacDonald Pass Airway Beacon, US 12, Helena, 14000462

Nebraska

Antelope County

Kester Planing Mill, 212 Chestnut St., Neligh, 14000463

New Hampshire

Carroll County

Great Falls Manufacturing Company Newichawannock Canal Historic District, Address Restricted, Wakefield, 14000460

New Jersey

Bergen County

Fell-Ackerman-Cable-Taylor House, 475 Franklin Tpk., Allendale, 14000464

Monmouth County

Trinity Church, 503 Asbury Ave., Asbury Park City, 14000465

Pennsylvania

Chester County

Nantmeal Village Historic District, Extending from jct. of Nantmeal, Fairview, Horseshoe Trail & Coventryville Rds., East Nantmeal Township, 14000466

Dauphin County

Penn, William, Memorial Museum and State Archives Building, 300 North St., Harrisburg, 14000467

Lancaster County

Berger, John & Son, Company Tobacco Warehouse, 191 Broad St., East Hempfield Township, 14000468

Northampton County

Bangor Historic District, Roughly bounded by 3rd, Fairview & Pennsylvania Aves., Division, N. 4th, N. Main, Erdman, Northhampton, S. 1st Sts., Bangor Borough, 14000469

Philadelphia County

Ajax Metal Company Plant, 46 Richmond St., Philadelphia, 14000470

Ortlieb, Henry F., Company Bottling House, 829-51 N. American St., Philadelphia, 14000475

Texas

Comal County

Saint Joseph's Chapel, 6400 FM 482, Schertz, 14000472

Dallas County

Joffre-Gilbert House, 309 S. O'Connor Rd., Irving, 14000473

Zavala County

Crystal City Internment Camp, Roughly bounded by Airport Dr., Popeye Ln., N. 7th & N. 12th Aves., Crystal City, 14000474

[FR Doc. 2014-16179 Filed 7-10-14; 8:45 am]

BILLING CODE 4312-51-P